DEPARTMENT OF THE INTERIOR

Bureau of Land Management

[LLWYP00000-L13200000-EL0000]

Powder River Regional Coal Team Activities: Notice of Public Meeting in Gillette, WY

AGENCY: Bureau of Land Management, Interior.

ACTION: Notice of public meeting.

SUMMARY: The Powder River Regional Coal Team (RCT) has scheduled a public meeting for November 17, 2009, to review coal management activities in the Powder River Coal Region.

DATES: The RCT meeting will begin at 9 a.m. MST on November 17, 2009. The meeting is open to the public.

ADDRESSES: The meeting will be held at the City of Gillette Community Meeting Room, 201 East 5th Street, Gillette, Wyoming.

FOR FURTHER INFORMATION CONTACT: Brenda Neuman, Solid Minerals Branch Chief, BLM Wyoming State Office, Division of Minerals and Lands, 5353 Yellowstone Road, Cheyenne, Wyoming 82009: telephone 307-775-6179 or Phil Perlewitz, Solid Minerals Branch Chief, BLM Montana State Office, Division of Resources, 5001 Southgate Drive, Billings, Montana 59101: telephone 406-896-5159.

SUPPLEMENTARY INFORMATION: The purpose of the meeting is to discuss progress in processing pending coal lease by applications (LBAs) in the Powder River Basin Region as well as other Federal coal-related actions in the region. Specific coal-related topics planned for the RCT meeting include:

1. Update on progress in processing existing coal LBAs in Wyoming.

2. The BLM is conducting a coal review study in the Powder River Basin Region. The results of this study will be used in the preparation of coal-related National Environmental Policy Act documents in the Powder River Basin Region. The RCT will be updated on the progress and results of this study.

3. Update on U.S. Geological Survey coal inventory work.

4. Update on BLM land use planning efforts in the Powder River Basin of Wyoming and Montana.

5. Any coal lease applications and/or other coal-related issues that may arise prior to the meeting.

During the public meeting the RCT may generate recommendation(s) for any or all of these topics and other topics that may arise prior to the meeting date.

The meeting will serve as a forum for public discussion on Federal coal management issues of concern in the Powder River Basin Region. Any party interested in providing comments or data related to existing pending applications, or any party proposing other issues to be considered by the RCT, may either do so in writing to the State Director (922), BLM Wyoming State Office, 5353 Yellowstone Road, Cheyenne, WY 82009, no later than November 3, 2009, or by addressing the RCT with his/her concerns at the meeting on November 17, 2009.

Following is the draft agenda for the meeting:

1. Introduction of RCT members and guests.

2. Approval of the minutes of the December 6, 2007, RCT meeting held in Casper, Wyoming.

3. Coal activity since the last RCT meeting including an update on pending LBAs.

4. BLM presentation on Powder River Basin coal review study.

5. U.S. Geological Survey presentation on coal inventory.

6. BLM land use planning efforts.

7. Other pending coal actions and other discussion items that may arise.

8. Discussion of the next meeting.

9. Adjourn.

Dated: October 2, 2009.
Donald A. Simpson,
State Director.

[FR Doc. E9-24401 Filed 10-13-09; 8:45 am]

BILLING CODE 4310-22-P